DEPARTMENT OF DEFENSE

Department of the Army

U.S. Army Science Board; Notice of Federal Advisory Committee Meeting

AGENCY: Department of the Army, DoD.

ACTION: Notice of Federal Advisory Committee meeting; cancellation.

SUMMARY: The Department of the Army published a notice of a Federal Advisory Committee meeting of the U.S. Army Science Board (ASB) in the Federal Register on Monday, December 21, 2020. The purpose of the meeting on January 5, 2021 was for ASB members to review, deliberate, and vote on the findings and recommendations on the following study: “An Independent Assessment of the 2040 Battlefield and its Implications for 5th Generation Combat Vehicle Technologies”. The meeting on January 5, 2021 is cancelled.

FOR FURTHER INFORMATION CONTACT: Ms. Heather J. Gerard, (703) 545-8652, heather.j.gerardi.civ@mail.mil or Ms. Gloria Mudge at gloria.l.mudge.civ@mail.mil. Mailing address is Army Science Board, 2530 Crystal Drive, Suite 7098, Arlington, VA 22202. Website: https://asb.army.mil/.

SUPPLEMENTARY INFORMATION: Due to circumstances beyond the control of the Department of Defense and the Designated Federal Officer for the U.S. Army Science Board was unable to provide public notification required by 41 CFR 102-3.150(a) concerning the cancellation of the previously noticed January 5, 2021 meeting of the U.S. Army Science Board. Accordingly, the Advisory Committee Management Officer for the Department of Defense, pursuant to 41 CFR 102-3.150(b), waives the 15-calendar day notification requirement.

James W. Satterwhite Jr.,
Alternate, Federal Register Liaison Officer.

[FR Doc. 2020-29275 Filed 1-5-21; 8:45 am]

BILLING CODE 5061-AP-P